DEPARTMENT OF AGRICULTURE

Forest Service

Umatilla National Forest, Columbia and Garfield Counties, WA School Fire Salvage Recovery Project

AGENCY: Forest Service, USDA.

ACTION: Notice of intent to prepare an environmental impact statement.

SUMMARY: The USDA Forest Service will prepare an environmental impact statement (EIS) to disclose environmental effects on a proposed action to recover the economic value of dead and dying trees damaged in the School Fire, and remove potential hazard trees from open forest travel routes, developed recreation sites, and administrative sites within North Patit Creek, Little Tucannon River, Cummings Creek, Tumalum Creek, Headwaters of Tucannon River, and Pataha Creek subwatersheds. School Fire, located 12 miles south of Pomeroy, Washington, burned approximately 52,000 acres across mixed ownership in August 2005, of that approximately 27,000 acres were on National Forest System Lands administered by Pomeroy Ranger District, Umatilla National Forest.

DATES: Comments concerning the scope of the analysis must be received by November 28, 2005. The Draft EIS is expected to be filed with the Environmental Protection Agency (EPA) and be available to the public for review by April 2006. The Final EIS is scheduled to be completed by July 2006.

ADDRESSES: Send written comments to the Responsible Official, Kevin D. Martin, Forest Supervisor, Umatilla National Forest, 2517 S.W. Hailey Avenue, Pendleton, OR 97801. Send electronic comments to: comments-pacificnorthwest-umatilla@fs.fed.us.

FOR FURTHER INFORMATION CONTACT: Dean Millett, Project Team Leader, Pomeroy Ranger District, 71 West Main Street, Pomeroy, WA 99347, phone (509) 843-1891. e-mail: dmillett@fs.fed.us.

SUPPLEMENTARY INFORMATION: Purpose and Need. The purpose and need of the School Fires Salvage Recovery Project includes: (1) Recovery of the economic value of a portion of dead and dying trees consistent with protection of other resource values; and (2) Improving public safety within the fire area by removing potential hazard trees along open forest travel routes, developed recreation sites, and administrative sites.

Proposed Action. This action includes salvage of dead and dying trees from approximately 10,000 acres and removal of potential hazard trees for public safety along open forest travel routes, developed recreation sites, and administrative sites. Salvage harvest methods would include ground based, skyline, and helicopter yarding systems. Ground based systems would not be used on sustained slopes greater than 30 percent. To facilitate haul some existing classified roads would be reconstructed and about 15 miles of temporary roads would be constructed. No new classified road construction is proposed and all temporary roads would be closed or decommissioned after project activities are completed. No commercial harvest or road construction is proposed within the Willow Spring Inventoried Roadless Area. Tree planting is proposed in salvage harvest areas where there is insufficient seed source to ensure natural regeneration in a timely manner. Some areas would have sub-merchantable trees felled prior to planting, and these areas would be broadcast burned to reduce excessive fuel loading before planting. Forest Plan amendments would be included as needed.

Possible Alternatives. Alternatives will include the proposed action, no action, and additional alternatives that respond to issues generated during the scoping process. The agency will give notice of the full environmental analysis and decision-making process so interested and affected people may participate and contribute to the final decision.

Scoping. Public participation will be especially important at several points during the analysis, beginning with the scoping process (40 CFR 1501.7). Initial scoping began with the project listed in the 2005 Fall Edition of the Umatilla National Forest's Schedule of Proposed Actions. Two informational field trips were conducted on October 18 and October 25, 2005. A public meeting will be scheduled for November 2005, to discuss the project. Other meetings will be scheduled as needed. Also, correspondence with tribes, government agencies, organizations, and individuals who have indicated their interest will be conducted.

Preliminary Issues. Preliminary issues identified include the potential effect of the proposed action on: soils, water quality and fish habitat, snags and down wood, disturbance to cultural resources, potential for noxious weed expansion, threatened, endangered and sensitive aquatic, terrestrial and plant species, potential loss of economic value of trees damaged by the wildfire, and the safety and use of the area by public and land managers.

Comment. Public comments about this proposal are requested to identify issues and alternatives to the proposed action and to focus the scope of the analysis. Comments received in response to this solicitation, including names and addresses of those who comment, will be considered part of the public record on this proposed action, and will be available for public inspection. Comments submitted anonymously will be accepted and considered; however, those who submit anonymous comments will not have standing to appeal the subsequent decisions under 36 CFR Parts 215 or 217. Additionally, pursuant to 7 CFR 1.27(d), any person may request the agency to withhold a submission from the public record by showing how the Freedom of Information Act (FOIA) permits such confidentiality. Persons requesting such confidentiality should be aware that under the FOIA, confidentiality may be granted in only very limited circumstances such as to protect trade secrets. The Forest Service will inform the requester of the agency's decision regarding the request for confidentiality, and where the request is denied; the agency will return the submission and notify the requester that the comments may be resubmitted with or without name and address within a specified number of days.

Early Notice of Importance of Public Participation in Subsequent Environmental Review. A draft EIS will be filed with the Environmental Protection Agency (EPA) and made available for public review by April 2006. The EPA will publish a Notice of Availability (NOA) of the draft EIS in the Federal Register. The final EIS is scheduled to be available July 2006.

The Forest Service believes at this early stage, it is important to give reviewers notice of several court rulings related to public participation in the environmental review process. First, reviewers of draft impact statements must structure their participation in the environmental review of the proposal so that it is meaningful and alerts the agency to the reviewer's position and contentions. Vermont Yankee Nuclear Power Corp. v. NRDC, 435 U.S. 519, 553 (1978). Also, environmental objections that could be raised at the draft environmental impact stage but that are not raised until after completion of the final environmental impact statement may be waived or dismissed by the courts. City of Angoon v. Hodel, 803 f.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

In the final EIS, the Forest Service is required to respond to substantive comments received during the comment period for the draft EIS. The Forest Service is the lead agency and the responsible official is the Forest Supervisor, Umatilla National Forest. The responsible official will decide where, and whether or not to salvage timber, and remove potential hazard trees. The responsible official will also decide how to mitigate effects of these actions and will determine when and how monitoring of effects will take place. The School Fire Salvage Recovery Project decision and reasons for the decision will be documented in a record of decision. That decision will be subject to Forest Service Appeal Regulations (36 CFR part 215).

Dated: October 20, 2005.
Edwin V. Pugh,
Acting Forest Supervisor.

[FR Doc. 05-21339 Filed 10-25-05; 8:45 am]

BILLING CODE 3410-11-M